DEPARTMENT OF COMMERCE

International Trade Administration

[C-475-817]

Oil Country Tubular Goods From Italy; Preliminary Results of Sunset Review of Countervailing Duty Order

AGENCY: Import Administration, International Trade Administration, Department of Commerce.

ACTION: Notice of preliminary results of full Sunset Review: oil country tubular goods from Italy.

SUMMARY: On July 3, 2000, the Department of Commerce (“the Department”) initiated a sunset review of the countervailing duty order on oil country tubular goods (“OCTG”) from Italy (65 FR 41053) pursuant to section 751(c) of the Tariff Act of 1930, as amended (“the Act”). On the basis of substantive responses filed by domestic and respondent interested parties, the Department determined to conduct a full review. As a result of this review, the Department preliminarily finds that revocation of the countervailing duty order would likely lead to continuation or recurrence of subsidies at the levels indicated in the Preliminary Results of Review section of this notice.

EFFECTIVE DATE: October 30, 2000.

FOR FURTHER INFORMATION CONTACT: John P. Maloney, Jr. or James Maeder, Office of Policy for Import Administration, International Trade Administration, U.S. Department of Commerce, 14th Street and Constitution Avenue, NW., Washington, DC 20230; telephone: (202) 482-1503 or (202) 482-3330, respectively.

SUPPLEMENTARY INFORMATION:

Statute and Regulations

This review is being conducted pursuant to sections 751(c) and 752 of the Act. The Department's procedures for the conduct of sunset reviews are set forth in Procedures for Conducting Five-Year (“Sunset”) Reviews of Antidumping and Countervailing Duty Orders, 63 FR 13516 (March 20, 1998) (“Sunset Regulations”) and in 19 CFR part 351 (2000) in general. Guidance on methodological or analytical issues relevant to the Department's conduct of sunset reviews is set forth in the Department's Policy Bulletin 98.3—Policies Regarding the Conduct of Five-Year (“Sunset”) Reviews of Antidumping and Countervailing Duty Orders; Policy Bulletin, 63 FR 18871 (April 16, 1998) (“Sunset Policy Bulletin”).

Background

On July 3, 2000, the Department initiated a sunset review of the countervailing duty order on oil country tubular goods from Italy (65 FR 41053), pursuant to section 751(c) of the Tariff Act of 1930, as amended, (“the Act”). The Department received a notice of intent to participate on behalf of U.S. Steel Group, a unit of USX Corporation, IPSCO Tubulars, Inc., Lone Star Steel Company, Maverick Tube Corporation, Newport Steel and Koppel Steel Divisions of NS Group, Grant-Prideco, and North Star Steel Ohio (collectively, “domestic interested parties”), within the applicable deadline (July 18, 2000) specified in section 351.218(d)(1)(i) of the Sunset Regulations. Domestic interested parties claimed interested-party status under section 771(9)(C) of the Act, as U.S. manufacturers of the domestic like product. U.S. Steel Group, IPSCO Steel, Inc., Maverick Tube Corporation, Koppel Steel Corporation, and North Star Steel Ohio were petitioners in the investigation and have been involved in this proceeding since its inception.

On August 1, 2000, we received a response from the European Union Delegation of the European Commission (“EC”) expressing its willingness to participate in this review as the authority responsible for defending the interest of the Member States of the European Union (“EU”) (see August 1, 2000, Response of the EC at 3). On August 1, 2000, we received a response from the Government of Italy (“GOI”) expressing its willingness to participate in this review as the authority responsible for defending the interests of the Italian steel industry. The GOI and EC note that they have in the past participated in this proceeding (see August 1, 2000, Response of the EC at 3, and the August 1, 2000, Response of the GOI at 2).

On August 2, 2000, we received complete substantive responses from domestic interested parties, within the 30-day deadline specified in the Sunset Regulations under section 351.218(d)(3)(i), and a complete substantive response from Dalmine S.p.A. (“Dalmine”), a foreign producer and exporter of the subject merchandise, and a respondent interested party under section 771(9)(A) of the Act.

We received rebuttal comments from domestic interested parties and Dalmine, on August 7, 2000. Pursuant to 19 CFR 351.218 (e)(2)(i), the Department determined to conduct a full (240-day) sunset review of this order.¹

¹ See August 22, 2000, Memorandum for Jeffrey A. May, Re: Oil Country Tubular Goods from Italy; Adequacy of Respondent Interested Parties' Response to the Notice of Initiation.

Scope of Review

The merchandise covered by this review is OCTG, hollow steel products of circular cross-section, including only oil well casing and tubing pipe, of iron (other than cast iron) or steel (both carbon and alloy), whether seamless or welded, whether or not conforming to American Petroleum Institute (API) or non-API specifications, whether finished or unfinished (including green tubes and limited service OCTG products). This scope does not cover casing or tubing pipe containing 10.5 percent or more of chromium, or drill pipe. The OCTG subject to this order are currently classified in the Harmonized Tariff Schedule of the United States (HTSUS) under item numbers: 7304.20.10.10, 7304.20.10.20, 7304.20.10.30, 7304.20.10.40, 7304.20.10.50, 7304.20.10.60, 7304.20.10.80, 7304.20.20.10, 7304.20.20.20, 7304.20.20.30, 7304.20.20.40, 7304.20.20.50, 7304.20.20.60, 7304.20.20.80, 7304.20.30.10, 7304.20.30.20, 7304.20.30.30, 7304.20.30.40, 7304.20.30.50, 7304.20.30.60, 7304.20.30.80, 7304.20.40.10, 7304.20.40.20, 7304.20.40.30, 7304.20.40.40, 7304.20.40.50, 7304.20.40.60, 7304.20.40.80, 7304.20.50.15, 7304.20.50.30, 7304.20.50.45, 7304.20.50.60, 7304.20.50.75, 7304.20.60.15, 7304.20.60.30, 7304.20.60.45, 7304.20.60.60, 7304.20.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. Although the HTSUS subheadings are provided for convenience and customs purposes, our written description of the scope of this proceeding is dispositive.

Analysis of Comments Received

All issues raised in the substantive responses and rebuttals by parties to this sunset review are addressed in the “Issues and Decision Memorandum” (“Decision Memo”) from Jeffrey A. May, Director, Office of Policy, Import Administration, to Troy H. Cribb, Acting Assistant Secretary for Import Administration, dated October 23, 2000, which is hereby adopted by this notice. The issues discussed in the attached Decision Memo include the likelihood of continuation or recurrence of countervailable subsidies and the net subsidy likely to prevail were the order revoked. Parties can find a complete discussion of all issues raised in this review and the corresponding recommendations in this public memorandum which is on file in the Central Records Unit, room B-099, of the main Commerce building.

In addition, a complete version of the Decision Memo can be accessed directly on the Web at www.ia.ita.doc.gov/frn, under the heading “Italy.” The paper copy and electronic version of the Decision Memo are identical in content.

Preliminary Results of Review

We preliminarily determine that revocation of the countervailing duty order on oil country tubular goods from Italy would be likely to lead to continuation or recurrence of countervailable subsidies at the rate listed below:

Producers/exporters | Net countervailable subsidy (percent)
All Producers/exporters from Italy | 1.47

Any interested party may request a hearing within 30 days of publication of this notice in accordance with 19 CFR 351.310(c). Any hearing, if requested, will be held on December 18, 2000, in accordance with 19 CFR 351.310(d). Interested parties may submit case briefs no later than December 11, 2000, in accordance with 19 CFR 351.309(c)(1)(i). Rebuttal briefs, which must be limited to issues raised in the case briefs, may be filed not later than December 15, 2000. The Department will issue a notice of final results of this sunset review, which will include the results of its analysis of issues raised in any such briefs, no later than February 28, 2001.

This five-year (“sunset”) review and notice are in accordance with sections 751(c), 752, and 777(i)(1) of the Act.

Dated: October 23, 2000.
Troy H. Cribb,
Acting Assistant Secretary for Import Administration.

[FR Doc. 00-27809 Filed 10-27-00; 8:45 am]

BILLING CODE 3510-DS-P